DEPARTMENT OF THE INTERIOR

Bureau of Indian Affairs

[2231A2100DD/AAKC001030/A0A501010.999900]

Notice of Availability of the Final Programmatic Environmental Impact Statement for the Navajo Nation Integrated Weed Management Plan; Arizona, New Mexico, and Utah

AGENCY: Bureau of Indian Affairs, Interior.

ACTION: Notice of availability.

SUMMARY: In accordance with the National Environmental Policy Act of 1969, as amended, the Bureau of Indian Affairs (BIA) as the lead Federal agency, with the Navajo Nation as a cooperating agency, has prepared a Final Programmatic Environmental Impact Statement (FPEIS) for the proposed Navajo Nation Integrated Weed Management Plan (NNIWMP) and by this notice is announcing its availability.

DATES: The BIA will not issue a final decision on the proposal for a minimum of 30 days after the date that the Environmental Protection Agency publishes its Notice of Availability (NOA) in the Federal Register.

ADDRESSES: The FPEIS and associated documents are available for review online at https://www.bia.gov/regional-offices/navajo/navajo-nation-integrated-weed-management-plan and by request at the Bureau of Indian Affairs, Navajo Regional Office, 301 West Hill Street, Gallup, NM 87301.

FOR FURTHER INFORMATION CONTACT: Leonard Notah, NEPA Coordinator, Bureau of Indian Affairs, Navajo Regional Office, Branch of Environmental Quality Compliance and Review, P.O. Box 1060, Gallup, New Mexico 87301, leonard.notah@bia.gov, (505) 863-8256. Individuals in the United States who are deaf, deafblind, hard of hearing, or have a speech disability may dial 711 (TTY, TDD, or TeleBraille) to access telecommunications relay services.

SUPPLEMENTARY INFORMATION:

Background

The proposed action is the implementation of the NNIWMP. The BIA Navajo Regional Office prepared the NNIWMP to determine the most effective and appropriate methods to treat noxious and invasive weeds. The FPEIS discloses the direct, indirect, and cumulative environmental impacts of weed treatment techniques that would result from the proposed action and alternatives. The weed treatment techniques provide the BIA with the tools to implement an integrated approach to treating weeds on the Navajo Nation (Navajo Tribal Trust Lands and Navajo Indian Allotments).

Purpose

The purpose of the NNIWMP is to prevent, eradicate, contain, and/or monitor 45 noxious weed species on the Navajo Nation including Navajo Tribal Trust Lands and Navajo Indian Allotments. The NNIWMP focuses on managing non-native invasive plant species using mechanical, manual, cultural, biological, and chemical weed treatment methods. The following objectives were developed for the NNIWMP:

• Develop the best control techniques described for the target weed species in a planned, coordinated, and economically feasible program to limit the impact and spread of noxious and invasive weeds;

• Incorporate project successes and lessons learned from completed weed projects on the Navajo Nation when developing weed removal project proposals through adaptive management;

• Identify and prevent the expansion of existing infestations of target weed species, and quickly prevent the spread of new high priority weed species in the project area;

• Coordinate weed removal efforts with adjacent landowners, land managers, and/or Federal agencies to prevent the further spread of weed populations (e.g., State roads and Bureau of Land Management);

• Provide and promote economic opportunities to the Navajo people by improving rangeland productivity and potentially providing economic opportunities to remove noxious plant species; and

• Develop a public education program focusing on weed identification, prevention, and removal techniques for local communities and non-profit organizations.

Duration

The NNIWMP encompasses a ten (10) year period but will incorporate a plan review after five (5) years. Repeated treatments will be necessary for most species since seeds can be viable in soil for ten (10) or more years. Therefore, reoccurring weed treatments will be implemented until the desired management goal is reached.

Stakeholders

Cooperating agencies for this NEPA process include: the Navajo Nation, Arizona Department of Transportation (ADOT), Utah Department of Transportation (UDOT), Navajo Nation Soil and Water Conservation Districts (SWCD), San Juan Soil and Water Conservation District, U.S. Department of Agriculture (USDA) Natural Resource Conservation Service (NRCS), the Bureau of Land Management, USDA Animal and Plant Health Inspection Service (APHIS) and the National Park Service. The BIA will seek to coordinate weed removal projects on adjacent lands managed by the above-mentioned agencies and neighboring areas managed by the Coconino National Forest and the Hopi Tribe.

Next Steps

The BIA issued a Notice of Availability of the Draft Programmatic Environmental Impact Statement on October 29, 2021 (86 FR 60065). The BIA responded to public comments during the Draft Programmatic EIS public review period. In accordance with NEPA, an agency must prepare a concise public Record of Decision (ROD) at the time the agency makes a decision in cases involving an EIS (40 CFR 1505.2). The BIA will issue the ROD no earlier than 30 days after the Environmental Protection Agency publishes a notice in the Federal Register announcing the availability (40 CFR 1506.10).

Authority

This notice is published in accordance with section 1503.1 of the Council on Environmental Quality regulations (40 CFR 1500 et seq.) and the Department of the Interior Regulations (43 CFR part 46) implementing the procedural requirements of the National Environmental Policy Act (42 U.S.C. 4321 et seq.), and in accordance with the exercise of authority delegated to the Assistant Secretary—Indian Affairs by part 209 of the Department Manual.

Bryan Newland,
Assistant Secretary—Indian Affairs.

[FR Doc. 2022-19018 Filed 9-1-22; 8:45 am]

BILLING CODE 4337-15-P